FEDERAL COMMUNICATIONS COMMISSION

47 CFR Part 73

[MB Docket No. 23-285; RM-11959; DA 23-904; FR ID 176385]

Television Broadcasting Services Jacksonville, Oregon

AGENCY: Federal Communications Commission.

ACTION: Proposed rule.

SUMMARY: The Video Division, Media Bureau has before it a petition for rulemaking (Petition) filed by theDove Media, Inc. (Petitioner), requesting the allotment of reserved noncommercial educational (NCE) television channel *4 to Jacksonville, Oregon as the community's first local television service and its first NCE television service.

DATES: Comments must be filed on or before November 3, 2023 and reply comments on or before November 20, 2023.

ADDRESSES: Federal Communications Commission, Office of the Secretary, 45 L Street, NE, Washington, DC 20554. In addition to filing comments with the FCC, interested parties should serve counsel for the Petitioner as follows: Howard M. Liberman, Esq., Wilkinson Barker Knauer, LLP, 1800 M Street, NW, Suite 800N, Washington, DC 20036.

FOR FURTHER INFORMATION CONTACT: Joyce Bernstein, Media Bureau, at (202) 418-1647; or Joyce Bernstein, Media Bureau, at Joyce.Bernstein@fcc.gov.

SUPPLEMENTARY INFORMATION: The Petitioner states that Jacksonville, Oregon qualifies as a community for allotment purposes. In support, it states that Jacksonville was incorporated in 1860 and had a population of 3,020 as of the 2020 Census. Jacksonville has a mayor and six council members, police, fire, public works, planning, and other government departments, an elementary school; a historic district; and a chamber of commerce. The Petitioner states its intention to file an application for channel *4, if allotted, and take all necessary steps to obtain a construction permit. The Petitioner's proposal would result in a first local service to Jacksonville under Priority (2) of the Commission's television allotment priority standard. The Petitioner demonstrates, and a Bureau staff engineering analysis confirms, that channel *4 can be allotted to Jacksonville, Oregon, consistent with the minimum geographic spacing requirements for new allotments in section 73.623(d) of the Commission's rules. In addition, the allotment point complies with section 73.625(a)(1) of the rules as the entire community of Jacksonville is encompassed by the proposed 35 dBμ contour.

This is a synopsis of the Commission's Notice of Proposed Rulemaking, MB Docket No. 23-285; RM-11959; DA 23-904, adopted September 28, 2023, and released September 28, 2023. The full text of this document is available for download at https://www.fcc.gov/edocs. To request materials in accessible formats (Braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a Notice of Proposed Rulemaking is issued to the time the matter is no longer subject to Commission consideration or court review, see 47 CFR 1.1208. There are, however, exceptions to this prohibition, which can be found in Section 1.1204(a) of the Commission's rules, 47 CFR 1.1204(a).

See Sections 1.415 and 1.420 of the Commission's rules for information regarding the proper filing procedures for comments, 47 CFR 1.415 and 1.420.

List of Subjects in 47 CFR part 73

Television.

Federal Communications Commission.
Thomas Horan,
Chief of Staff, Media Bureau.

Proposed Rule

For the reasons discussed in the preamble, the Federal Communications Commission proposes to amend 47 CFR part 73 as follows:

PART 73—RADIO BROADCAST SERVICE

1. The authority citation for part 73 continues to read as follows:

Authority: 47 U.S.C. 154, 155, 301, 303, 307, 309, 310, 334, 336, 339.

2. In § 73.622, in the table in paragraph (j), under Oregon, by adding, in alphabetical order, Jacksonville to read as follows:

§ 73.622 Digital television table of allotments.

* * * * *

(j) * * *

Community | Channel No.
* * * * *
Oregon
* * * * *
Jacksonville | * 4
* * * * *

[FR Doc. 2023-22062 Filed 10-3-23; 8:45 am]

BILLING CODE 6712-01-P